SMALL BUSINESS ADMINISTRATION

[Declaration of Disaster # 3397]

State of New York

Jefferson County and the contiguous counties of Lewis, Oswego and St. Lawrence in the State of New York constitute a disaster area as a result of a fire that occurred in the Village of Carthage on March 2, 2002. The fire destroyed nine buildings containing a number of rental units and businesses. Applications for loans for physical damage may be filed until the close of business on May 7, 2002 and for economic injury until the close of business on December 9, 2002 at the address listed below or other locally announced locations:

U.S. Small Business Administration, Disaster Area 1 Office, 360 Rainbow Blvd., South 3rd Floor, Niagara Falls, NY 14303.

The interest rates are:

| Percent
For Physical Damage:
Homeowners with Credit Available Elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 339705 and for economic injury the number is 9O7700.

(Catalog of Federal Domestic Assistance Program Nos. 59002 and 59008)
Dated: March 8, 2002.
Hector V. Barreto,
Administrator.

[FR Doc. 02-6189 Filed 3-14-02; 8:45 am]

BILLING CODE 8025-01-P